DEPARTMENT OF THE INTERIOR

National Park Service

Notice of Continuation of Concession Contract

AGENCY: National Park Service, Interior.

ACTION: Public notice.

SUMMARY: The National Park Service hereby gives public notice that it proposes to continue the concession contract (CC-LAKE007-84) at Lake Mead National Recreation Area until December 31, 2013, a period of 1 year and 8 months.

DATES: Effective Date: April 1, 2012.

SUPPLEMENTARY INFORMATION: The concession contract CC-LAKE007-84 will expire on March 31, 2012. Pursuant to 36 CFR 51.23, the National Park Service has determined that the proposed short-term continuation is necessary to avoid interruption of visitor services and has taken all reasonable and appropriate steps to consider alternatives to avoid such interruption.

FOR FURTHER INFORMATION CONTACT: Jo A. Pendry, Chief, Commercial Services Program, National Park Service, 1201 Eye Street NW., 11th Floor, Washington, DC 20005, Telephone (202) 513-7156.

Dated: January 20, 2012.
Jo A. Pendry,
Acting Associate Director, Business Services.

[FR Doc. 2012-3721 Filed 2-16-12; 8:45 am]

BILLING CODE 4312-53-P